DEPARTMENT OF TRANSPORTATION

Federal Aviation Administration

Notice of Opportunity for Public Comment on a Parcel Swap at Belfast Municipal Airport in Belfast, ME

AGENCY: Federal Aviation Administration (FAA), DOT.

ACTION: Request for public comments.

SUMMARY: Under our provisions this notice is being given that the FAA is considering a request from the City of Belfast in Belfast, ME to swap two parcels of land between the City of Belfast and the State of Maine Department of Defense and Veterans Services (Military Bureau) for the construction of a parallel taxiway at Belfast Municipal Airport in Belfast, ME.

The Airport wishes to construct a parallel taxiway for Runway 15-33, and in order for the taxiway to be constructed to FAA standards, the Airport needs to acquire land from the adjacent landholder, the Military Bureau. The Military Bureau indicated that from a practical point, a land swap would be the most efficient option for them to release land to the Airport. The parcel the Airport is seeking to release and dispose of is currently not needed for aviation purposes. Both the City of Belfast and the Military Bureau have obtained the proper approvals from the Belfast City Council and the Maine State Legislature to release the two parcels of land in April and October of 2015, respectively.

DATES: Comments must be received on or before July 18, 2016.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, Telephone 781-238-7618.

Issued in Burlington, Massachusetts, on April 19, 2016.
Mary T. Walsh,
Manager, Airports Division.

[FR Doc. 2016-13935 Filed 6-15-16; 8:45 am]

BILLING CODE P